SURFACE TRANSPORTATION BOARD

[Docket No. FD 36842]

Mingus Mountain Railroad, LLC—Acquisition and Operation Exemption—Line of Clarkdale Arizona Central Railroad, L.C.

Mingus Mountain Railroad, LLC (MMRL), a noncarrier, has filed a verified notice of exemption under 49 CFR 1150.31 to acquire from Clarkdale Arizona Central Railroad, L.C. (CACR), and operate approximately 38.74 miles of rail line between milepost 0 + 15 feet at Drake, Ariz., and the Phoenix Cement Plant at milepost 38 + 3940.3 feet near Clarkdale, Ariz. (the Line). The verified notice states that MMRL will also acquire by assignment from CACR approximately 2,985 feet of incidental trackage rights over certain connecting lines owned by Drake Cement, LLC, located between milepost 0 + 15 feet and milepost 0 + 3000 feet in Drake (the Drake Lines). See Clarkdale Ariz. Cent. R.R.—Trackage Rts. Exemption—Drake Cement, LLC, FD 35742 (Sub-No. 1) (STB served May 15, 2020).

According to the verified notice, MMRL and CACR have entered into a letter of intent that, subsequent to completion of an executed purchase and sale agreement, provides MMRL with the right to acquire the Line from CACR, conduct common carrier service over the Line, and acquire trackage rights over the Drake Lines. MMRL states that, after consummating the proposed transaction, it expects to operate as a Class III rail carrier.

MMRL certifies that the transaction does not involve any provision that would prohibit or limit future interchange with any third-party connecting carrier. MMRL further certifies that its projected annual revenues are not expected to exceed $5 million and will not result in MMRL's becoming a Class I or Class II rail carrier.

The earliest this transaction may be consummated is March 30, 2025, the effective date of the exemption. If the verified notice contains false or misleading information, the exemption is void ab initio. Petitions to revoke the exemption under 49 U.S.C. 10502(d) may be filed at any time. The filing of a petition to revoke will not automatically stay the effectiveness of the exemption. Petitions for stay must be filed no later than March 21, 2025 (at least seven days before the exemption becomes effective).

All pleadings, referring to Docket No. FD 36842, must be filed with the Surface Transportation Board either via e-filing on the Board's website or in writing addressed to 395 E Street SW, Washington, DC 20423-0001. In addition, a copy of each pleading must be served on MMRL's representative, Robert A. Wimbish, Fletcher & Sippel LLC, 29 North Wacker Drive, Suite 800, Chicago, IL 60606-3208.

According to MMRL, this action is categorically excluded from environmental review under 49 CFR 1105.6(c) and from historic preservation reporting requirements under 49 CFR 1105.8(b).

Board decisions and notices are available at www.stb.gov.

Decided: March 10, 2025.
By the Board, Scott M. Zimmerman, Acting Director, Office of Proceedings.
Kenyatta Clay,
Clearance Clerk.

[FR Doc. 2025-04051 Filed 3-13-25; 8:45 am]

BILLING CODE 4915-01-P